DEPARTMENT OF DEFENSE

Department of the Army, Corps of Engineers

Intent To Prepare a Draft Supplemental Environmental Impact Statement for the Middle Mississippi River Regulating Works Project, Missouri and Illinois

AGENCY: Department of the Army, U.S. Army Corps of Engineers, DoD.

ACTION: Notice of Intent.

SUMMARY: The U.S. Army Corps of Engineers (USACE) intends to prepare a draft supplemental environmental impact statement (SEIS) for the Middle Mississippi River Regulating Works Project. This project is the means by which USACE provides a safe and dependable 9-foot navigation channel on the Middle Mississippi River. The Middle Mississippi River is defined as that portion of the Mississippi River that lies between the confluences of the Ohio and Missouri rivers. The original environmental impact statement (EIS) for the Project was finalized in 1976. USACE has determined that there is sufficient significant new information regarding the potential impacts of the project on the human environment to warrant the preparation of a supplemental environmental impact statement.

ADDRESSES: U. S. Army Corps of Engineers, CEMVS-EC-H, 1222 Spruce St., St. Louis, MO 63103-2833.

FOR FURTHER INFORMATION CONTACT: Questions about the proposed action and SEIS should be addressed to Mr. Jasen Brown, (see ADDRESSES) or email: jasen.l.brown@usace.army.mil; phone: (314) 331-8540; fax: 314-331-8346.

SUPPLEMENTARY INFORMATION: The Middle Mississippi River Regulating Works Project is specifically and currently authorized pursuant to Rivers and Harbors Acts beginning in 1881. These authorize USACE to provide a safe and dependable navigation channel, 9 feet deep and not less than 300 feet wide. USACE accomplishes this mission through bank stabilization and sediment management to ensure adequate navigation depth and width. Project improvements are achieved through the construction of river training structures, revetment, rock removal, and construction dredging. The Regulating Works Project is maintained through dredging and any needed maintenance to already constructed features. The long-term goal of the Regulating Works Project, as authorized by Congress, is to reduce or eliminate the amount of annual maintenance dredging and the occurrence of vessel accidents through the construction of river training structures to provide a sustainable navigation channel and reduce federal expenditures. Since the 1970s various environmental laws, regulations, and policies have resulted in consideration of the environment in the design and construction of the Regulating Works Project.

1. Proposed Action. USACE proposes to continue to provide a safe and dependable 9-foot-deep and minimum of 300-foot-wide navigation channel on the Middle Mississippi River by means of one of the alternatives currently recommended for consideration or by another reasonable alternative developed during the scoping process. Economic and environmental impact analyses will be utilized to determine which alternative is the best course of action.

2. Alternatives. Alternatives recommended for consideration currently include:

• Continue with the Regulating Works Project. This would entail continuing to build rock dikes, weirs, and revetment at the current pace and continuing to dredge as necessary to maintain the navigation channel. This alternative would lead to the minimum amount of continued maintenance dredging.

• Do not build any new dikes, weirs, or revetment going forward but maintain the existing structures to perform their intended functions. Maintenance dredging would continue into the future at roughly the current level.

3. Scoping. Scoping is the process for determining the range of alternatives and significant issues to be analyzed in detail in the SEIS. Public involvement is an integral part of the scoping process. All parties believed to have an interest in the analysis, including affected federal, state, and local agencies, and affected Federally Recognized Tribes will be included in the SEIS scoping process. Letters will be sent to all interested parties requesting their input on alternatives and issues to be evaluated. The letters will also notify interested parties of public scoping meetings that will be held in the local area. Notices will also be sent to local news media. All interested parties are invited to comment at this time, and anyone interested in the SEIS should request to be included in the mailing list.

Public scoping meetings will be held in early 2014. The meetings will be held in the vicinity of St. Louis and Cape Girardeau, Missouri. Additional meetings could be held, depending upon interest and if it is determined that further public coordination is warranted.

4. Significant Issues. The significant new information that has been developed since completion of the original EIS will be evaluated and the EIS will be supplemented pursuant to this evaluation. Resources and issues which could reasonably be expected to be analyzed in the SEIS at this time include aquatic habitat, navigation, river stages, fish and wildlife resources, water quality, air quality, threatened and endangered species, commercial and recreational fisheries, historic and cultural resources, and socioeconomic resources.

5. Environmental Consultation and Review. The U.S. Fish and Wildlife Service (USFWS) will be assisting in the documentation of existing conditions and assessment of the effects of project alternatives through Fish and Wildlife Coordination Act consultation procedures. The USFWS will provide a Fish and Wildlife Coordination Act Report. Consultation will be accomplished with the USFWS concerning threatened and endangered species and their critical habitat. USACE will also work closely throughout the SEIS process with other resource agency partners including the Missouri Department of Conservation and Illinois Department of Natural Resources. The draft SEIS or a notice of its availability will be distributed to all interested agencies, organizations, and individuals.

6. Estimated Date of Availability. The earliest that the draft SEIS would be available for public review would be in the fall of 2015. The draft SEIS or a notice of availability will be distributed to all interested agencies, organizations, and individuals.

Dated: December 12, 2013.
Christopher G. Hall,
Col, EN, Commanding.

[FR Doc. 2013-30347 Filed 12-19-13; 8:45 am]

BILLING CODE 3720-58-P